ENVIRONMENTAL PROTECTION AGENCY

[EPA-HQ-OAR-2007-0269; FRL-9308-7]

Agency Information Collection Activities; Submission to OMB for Review and Approval; Comment Request; Transportation Conformity Determinations for Federally Funded and Approved Transportation Plans (Renewal)

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before June 20, 2011.

ADDRESSES: Submit your comments, referencing Docket ID No. EPA-HQ-OAR-2007-0269, to (1) EPA online using http://www.regulations.gov (our preferred method), or by mail to EPA Docket Center, Environmental Protection Agency, Air and Radiation Docket, Mailcode 28221T, 1200 Pennsylvania Ave., NW., Washington, DC 20460, and (2) OMB by mail to: Office of Information and Regulatory Affairs, Office of Management and Budget (OMB), 725 17th Street, NW., Washington, DC 20503, Attention: Desk Officer for EPA.

FOR FURTHER INFORMATION CONTACT: Astrid Larsen, State Measures and Conformity Group, Transportation and Regional Programs Division, U.S. Environmental Protection Agency, 2000 Traverwood Drive, Ann Arbor, MI 48105; telephone number (734) 214-4812; fax number: (734) 214-4052; e-mail address: larsen.astrid@epa.gov.

SUPPLEMENTARY INFORMATION: EPA has submitted the following ICR to OMB for review and approval according to the procedures prescribed in 5 CFR 1320.12. On February 10, 2011 (76 FR 7560), EPA sought comments on this ICR pursuant to 5 CFR 1320.8(d). EPA received 4 comments during the comment period, which are addressed in the ICR. Any additional comments on this ICR should be submitted to EPA and OMB within 30 days of this notice.

EPA has established a public docket for this ICR under Docket ID No. EPA-HQ-OAR-2007-0269, which is available for online viewing at http://www.regulations.gov, or in person viewing at the Air Docket in the EPA Docket Center (EPA/D.C.), EPA West, Room 3334, 1301 Constitution Ave., NW., Washington, DC. The EPA/D.C. Public Reading Room is open from 8:30 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Transportation Conformity Determinations for Federally Funded and Approved Transportation Plans, Programs and Projects (Renewal).

ICR numbers: EPA ICR No. 2130.04, OMB Control No. 2060-0561.

ICR Status: This ICR is scheduled to expire on May 31, 2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR Part 9, are displayed either by publication in the Federal Register or by other appropriate means, such as on the related collection instrument or form, if applicable. The display of OMB control numbers in certain EPA regulations is consolidated in 40 CFR part 9.

Abstract: Transportation conformity is required under Clean Air Act section 176(c) (42 U.S.C. 7506(c)) to ensure that federally supported transportation activities are consistent with (“conform to”) the purpose of the state air quality implementation plan (SIP). Transportation activities include transportation plans, transportation improvement programs (TIPs), and federally funded or approved highway or transit projects. Conformity to the purpose of the SIP means that transportation activities will not cause or contribute to new air quality violations, worsen existing violations, or delay timely attainment of the relevant national ambient air quality standards (NAAQS or “standards”) or interim milestones.

Transportation conformity applies under EPA's conformity regulations at 40 CFR Part 93, subpart A, to areas that are designated nonattainment, and those redesignated to attainment after 1990 (“maintenance areas” with plans developed under Clean Air Act section 175A) for the following transportation related criteria pollutants: Ozone, particulate matter (PM2.5 and PM10), carbon monoxide (CO), and nitrogen dioxide (NO2). The EPA published the original transportation conformity rule on November 24, 1993 (58 FR 62188), and subsequently published several revisions. EPA develops the conformity regulations in coordination with the Federal Highway Administration (FHWA) and Federal Transit Administration (FTA).

Transportation conformity determinations are required before federal approval or funding is given to certain types of transportation planning documents as well as non-exempt highway and transit projects.

EPA considered the following in renewing the existing ICR: Burden estimates for transportation conformity determinations in current nonattainment and maintenance areas for the ozone, PM2.5, PM10, CO, and NO2 NAAQS, which made up EPA's previous ICR; federal burden associated with EPA's adequacy review process for submitted SIP budgets that are to be used in conformity determinations; new start-up burden associated with learning to perform quantitative hot-spot analyses; new burden associated with using the MOVES model for conformity analyses; efficiencies in areas doing conformity for multiple NAAQS; and, differences in conformity resource needs in large and small metropolitan areas and isolated rural areas.

This ICR does not include burden associated with the general development of transportation planning and air quality planning documents for meeting other federal requirements.

Burden Statement: The annual public reporting and recordkeeping burden for this collection of information is estimated to average 8 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State and local governments.

Estimated Number of Respondents: 174.

Frequency of Response: Occasionally.

Estimated Total Annual Hour Burden: 88,404 hours.

Estimated Total Annual Cost: $5,199,040 includes no annualized capital or without O&M costs.

Changes in the Estimates: There is an increase of 36,100 hours in the total estimated burden currently identified in the OMB Inventory of Approved ICR Burdens. This increase reflects EPA's adjustments associated with the actual number of 2006 PM2.5 NAAQS nonattainment areas versus the estimated number in the previous ICR, adjustment for increased burden associated with quantitative hot-spot analyses, an adjustment for the increased burden associated with the transition from the MOBILE6.2 to the MOVES model, an adjustment to the frequency of plan and TIP conformity determinations, and an adjustment for burden associated with increased consultation hours.

Dated: May 16, 2011.
John Moses,
Director, Collection Strategies Division.

[FR Doc. 2011-12496 Filed 5-19-11; 8:45 am]

BILLING CODE 6560-50-P